OFFICE OF PERSONNEL MANAGEMENT

[Docket ID: OPM-2024-0007]

Submission for Review: 3206-0174, Survivor Annuity Election for a Spouse, RI 20-63; Cover Letter Giving Information About the Cost To Elect Less Than the Maximum Survivor Annuity, RI 20-116; Cover Letter Giving Information About the Cost To Elect the Maximum Survivor Annuity, RI 20-117

AGENCY: Office of Personnel Management.

ACTION: 60-Day notice and request for comments.

SUMMARY: The Office of Personnel Management (OPM), Retirement Services, offers the general public and other Federal agencies the opportunity to comment on an expiring information collection request (ICR): Survivor Annuity Election for a Spouse (RI 20-63), Cover Letter Giving Information about the Cost to Elect Less Than the Maximum Survivor Annuity (RI 20-116) and Cover Letter Giving Information About the Cost to Elect the Maximum Survivor Annuity (RI 20-117).

DATES: Comments are encouraged and will be accepted until May 24, 2024.

ADDRESSES: You may submit comments, identified by docket number and title, by any of the following methods:

• Federal eRulemaking Portal: https://www.regulations.gov. Follow the instructions for submitting comments.

Instructions: All submissions received must include the agency name, docket number and title for this Federal Register document. The general policy for comments and other submissions from members of the public is to make these submissions available for public viewing on the internet at https://www.regulations.gov without change, including any personal identifiers or contact information.

FOR FURTHER INFORMATION CONTACT: A copy of this ICR with applicable supporting documentation, may be obtained by contacting the Retirement Services Publications Team, Office of Personnel Management, 1900 E Street NW, Room 3316-L, Washington, DC 20415, Attention: Cyrus S. Benson or sent via email to RSPublicationsTeam@opm.gov or faxed to (202) 606-0910 or reached via telephone at (202) 936-0401.

SUPPLEMENTARY INFORMATION: As required by the Paperwork Reduction Act of 1995 (Pub. L. 104-13, 44 U.S.C. chapter 35), as amended by the Clinger-Cohen Act (Pub. L. 104-106), OPM is soliciting comments for this collection (OMB No. 3206-0174). OPM is particularly interested in comments that:

1. Evaluate whether the proposed collection of information is necessary for the proper performance of functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology permitting electronic submissions of responses.

RI 20-63 is used by annuitants to elect a reduced annuity to provide a survivor annuity for a spouse acquired after retirement. RI 20-116 is a cover letter for RI 20-63 giving annuitants information about the cost for electing less than a maximum survivor annuity. This letter is used to supply information that may have been requested by the annuitant about the cost of electing less than the maximum survivor annuity. RI 20-117 is a cover letter for RI 20-63 giving information about the cost to elect a maximum survivor annuity.

Analysis

Agency: Retirement Operations, Retirement Services, Office of Personnel Management.

Title: Survivor Annuity Election for a Spouse/Cover Letter Giving Information about the Cost to Elect Less Than the Maximum Survivor Annuity/Cover Letter Giving Information about the Cost to Elect the Maximum Survivor Annuity.

OMB Number: 3206-0174.

Frequency: On occasion.

Affected Public: Individuals or Households.

Number of Respondents: RI 20-63 = 2,400; RI 20-116 & RI 20-117 = 200.

Estimated Time per Respondent: 55 minutes [RI 20-63 = 45 min., RI 20-116 & 20-117 = 10 min.].

Total Burden Hours: 1,834.

Office of Personnel Management.
Kayyonne Marston,
Federal Register Liaison.

[FR Doc. 2024-06194 Filed 3-22-24; 8:45 am]

BILLING CODE 6325-38-P